DEPARTMENT OF EDUCATION

Applications for New Awards; Centers of Excellence for Veteran Student Success Program; Correction

AGENCY: Office of Postsecondary Education, Department of Education.

ACTION: Notice; correction.

SUMMARY: On October 5, 2020, the Department of Education (Department) published in the Federal Register a notice inviting applications (NIA) for new awards for fiscal year (FY) 2020 for the Centers of Excellence for Veteran Student Success Program, Catalog of Federal Domestic Assistance (CFDA) number 84.116G. We are correcting the deadline for intergovernmental review. All other information in the NIA, including the November 4, 2020, deadline for transmittal of applications, remains the same.

DATES: This correction is applicable October 23, 2020.

FOR FURTHER INFORMATION CONTACT: Kelly Harris, U.S. Department of Education, 400 Maryland Avenue SW, Room 268-30, Washington, DC 20202. Telephone: (202) 453-7346. Email: Kelly.Harris@ed.gov.

If you use a telecommunications device for the deaf (TDD) or a text telephone (TTY), call the Federal Relay Service (FRS), toll free, at 1-800-877-8339.

SUPPLEMENTARY INFORMATION: On October 5, 2020, we published in the Federal Register an NIA for the FY 2020 competition of the Centers of Excellence for Veteran Student Success Program (85 FR 62715). This notice revises the deadline for intergovernmental review, from January 4, 2021, to December 4, 2020. All other requirements and conditions in the NIA remain the same.

Correction

In FR Doc. 2020-21886 appearing on page 62715 of the Federal Register of October 5, 2020, the following corrections are made:

1. On page 62715, in the third column, under Dates and after “Deadline for Intergovernmental Review”, we remove the date “January 4, 2021” and add in its place the date “December 4, 2020”.

2. On page 62716, in the third column, at the end of section IV.2 “Intergovernmental Review”, we add the following sentence:

“Please note that, under 34 CFR 79.8(a), we have shortened the standard 60-day intergovernmental review period in order to make awards by December 31, 2020.”

Program Authority: 20 U.S.C. 1161t.

Accessible Format: On request to the contact person listed under FOR FURTHER INFORMATION CONTACT, individuals with disabilities can obtain this notice, the NIA, and a copy of the application in an accessible format (e.g., Braille, large print, audio tape, or compact disc), to the extent reasonably practicable.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Robert L. King,
Assistant Secretary for the Office of Postsecondary Education.

[FR Doc. 2020-23475 Filed 10-22-20; 8:45 am]

BILLING CODE 4000-01-P